DEPARTMENT OF STATE

[Public Notice 12027]

2021 Global Magnitsky Human Rights Accountability Act Annual Report

ACTION: Notice.

SUMMARY: This notice contains the text of the report required by the Global Magnitsky Human Rights Accountability Act, as submitted by the Secretary of State.

FOR FURTHER INFORMATION CONTACT: Andrew Self, Email: SelfAH@state.gov, Phone: (202) 412-3586.

SUPPLEMENTARY INFORMATION: On December 10, 2021,the Secretary of State approved the following report pursuant to the Global Magnitsky Human Rights Accountability Act (Pub. L. 114-328, Title XII, Subtitle F) (“the Act”), which is implemented and built upon by E.O. 13818 of December 20, 2017, “Executive Order Blocking the Property of Persons Involved in Serious Human Rights Abuse or Corruption”(E.O. 13818). The text of the report follows:

Pursuant to Section 1264 of the Act, and in accordance with E.O. 13818, the Secretary of State, in consultation with the Secretary of the Treasury, submits this report to detail the Administration's implementation of the Act in the 2021 reporting period.

In 2021, the United States took significant action under the Global Magnitsky sanctions program (“Global Magnitsky”), designating 176 foreign persons over the course of the year. As of December 10, 2021, the United States has designated a total of 415 foreign persons (individuals and entities) pursuant to E.O. 13818. This sanctions program, which targets those engaged in serious human rights abuse, corrupt actors, and their enablers, represents the best of the United States' values by taking impactful steps to promote respect for human rights and combat corruption around the world. Through the Act and E.O. 13818, the United States has sought to disrupt and deter serious human rights abuse and corruption abroad; promote accountability for those who act with impunity; and protect and promote longstanding international norms alongside our partners and allies.

As the President outlined in his Interim National Security Strategy (NSS), the United States will stand with our allies and partners to combat new threats aimed at our democracies. The Administration will take special aim at confronting corruption, which rots democracy from the inside, impedes development, and is increasingly weaponized by authoritarian states to undermine democratic institutions. The United States will defend and protect human rights; address discrimination, inequity, and marginalization in all its forms; and stand up for democracy, human rights, and human dignity. On all these issues, the United States will work to forge a common approach with likeminded countries. Through implementation of the Global Magnitsky sanctions program, the Administration is taking action to execute the President's vision as described in the Interim NSS.

On June 3, 2021, the President issued a Memorandum on Establishing the Fight Against Corruption as a Core United States National Security Interest. This Memorandum states that corruption threatens United States national security, economic equity, global anti-poverty and development efforts, and democracy itself. It directs action to bolster the U.S. government to hold accountable corrupt individuals and their facilitators, including by, and where appropriate, identifying, freezing, and recovering stolen assets through sanctions or other authorities; to bolster the capacity of domestic and international institutions and multilateral bodies focused on establishing global anti-corruption norms; and work with international partners to counteract strategic corruption by foreign leaders, foreign state-owned or affiliated enterprises, and other foreign actors and their domestic collaborators. The Global Magnitsky program and cooperation with like-minded international partners directly address each of these objectives.

Actions taken in 2021 continue to demonstrate the reach, flexibility, and broad scope of Global Magnitsky. The United States responded to serious human rights abuse and corruption globally, deterring and disrupting some of the most egregious behavior by foreign actors. These actions targeted, among others, oligarchs engaged in public corruption in Bulgaria, corrupt politicians undermining the rule of law in Central America, and officials connected to serious human rights abuse against members of the Uyghur community in the People's Republic of China's Xinjiang province. These designations clearly demonstrate the Administration's resolve to leverage this important tool judiciously and to strategic effect.

When considering economic sanctions under Global Magnitsky, the United States prioritizes actions that are expected to produce a tangible and significant impact on the sanctioned persons and their affiliates and prompt changes in behavior or disrupt the activities of malign actors. Persons sanctioned pursuant to this authority appear on the Office of Foreign Assets Control's (OFAC's) List of Specially Designated Nationals and Blocked Persons (SDN List). As a result of these actions, all property and interests in property of the sanctioned persons that are in the United States or in the possession or control of U.S. persons, are blocked and must be reported to OFAC. Unless authorized by a general or specific license issued by OFAC or otherwise exempt, OFAC's regulations generally prohibit all transactions by U.S. persons or within (or transiting) the United States that involve any property or interests in property of designated or otherwise blocked persons. The prohibitions include the making of any contribution or provision of funds, goods, or services by, to, or for the benefit of any blocked person or the receipt of any contribution or provision of funds, goods or services from any such person. In 2021, the Secretary of the Treasury, in consultation with the Secretary of State and the Attorney General, imposed financial sanctions on the following persons 176 persons and entities pursuant to E.O. 13818:

1. Falih al-Fayyadh: Al-Fayyadh was designated on January 8, 2021, for being a foreign person who is a leader or official of an entity that has engaged in, or whose members have engaged in, serious human rights abuse, relating to the leader's or official's tenure. Al-Fayyadh is the Iraqi Popular Mobilization Committee (PMC) Chairman and former National Security Advisor. Al-Fayyadh was the head of the PMC when many of its subcomponents fired live ammunition at peaceful protestors in late 2019, resulting in the death of hundreds of Iraqis. Al-Fayyadh was part of a crisis cell comprised primarily of Popular Mobilization Forces (PMF) militia leaders formed in late 2019 to suppress the Iraqi protests with the support of Iran's Islamic Revolutionary Guard Corps-Qods Force, which was designated pursuant to E.O. 13224 on October 25, 2007.

2. Cuban Ministry of Interior (MININT): MININT was designated on January 15, 2021, for being a foreign person who is responsible for or complicit in, or having directly or indirectly engaged in, serious human rights abuse. MININT is responsible for Cuba's internal security, to include controlling Cuba's police, internal security forces, and the country's prison system. Specialized units of MININT's state security branch are responsible for monitoring political activity, and Cuba's police support these security units by arresting persons of interest to MININT. In September 2019, Cuban dissident Jose Daniel Ferrer was held in a MININT-controlled prison in Cuba, where he reported being beaten, tortured, and held in isolation. Additionally, Ferrer received no medical attention while in prison. The Cuban Minister of the Interior, Lazaro Alberto Álvarez Casas, was simultaneously designated for being a foreign person who is the leader or official of MININT, an entity that has engaged in, or whose members have engaged in, serious human rights abuse relating to his tenure. Casas served as the vice minister of MININT until November 25, 2020, when he was promoted to the position of Minister of the Interior.

3. The Cuban regime has dispatched security forces to suppress peaceful, pro-democratic demonstrators during protests that began in Cuba in July 2021, deploying units from both MININT and the Cuban Ministry of Revolutionary Armed Forces (MINFAR). The additional individuals and entities designated in connection with the regime's suppression of the protests are:

• Brigada Especial Nacional Del Ministerio Del Interior (SNB): The SNB was designated on July 22, 2021, for being owned or controlled by, or for acting or purporting to act for or on behalf of, directly or indirectly, MININT, which, as noted above, was previously designated by OFAC pursuant to the Global Magnitsky program for being a foreign person who is responsible for or complicit in, or having directly or indirectly engaged in, serious human rights abuse. The SNB, also known as the Boinas Negras or Black Berets, is a special forces unit under MININT. During the July 2021 protests, the Cuban government deployed the SNB to suppress and attack protesters.

• Alvaro Lopez Miera: Lopez was designated on July 22, 2021, for being a foreign person who is the leader or official of MINFAR, an entity that has engaged in, or whose members have engaged in, serious human rights abuse, relating to his tenure. Lopez is the Cuban Minister of Defense and played an integral role in the repression of ongoing protests in Cuba.

• Policia Nacional Revolucionaria (PNR): The PNR was designated on July 30, 2021, for being owned or controlled by, or for acting or purporting to act for or on behalf of, directly or indirectly, MININT. PNR is a police unit under the Cuban MININT that was photographed confronting and arresting protestors in Havana, including the Movement of July 11 Mothers, a group founded to organize families of the imprisoned and disappeared. In Camagüey, a Catholic priest was beaten and arrested by the PNR while he was defending young protesters; officers of the PNR also beat a group of peaceful demonstrators, including several minors. Additionally, there have been several recorded instances in which the PNR used clubs to violently break up peaceful protests across Cuba.

• Oscar Alejandro Callejas Valcarce: Callejas was designated on July 30, 2021, for acting or purporting to act for or on behalf of, directly or indirectly, the PNR. Callejas is the Director of the Policia Nacional Revolucionaria (PNR).

• Eddy Manuel Sierra Arias: Sierra was designated on July 30, 2021, for acting or purporting to act for or on behalf of, directly or indirectly, the PNR. Sierra is the Deputy Director of the Policia Nacional Revolucionaria (PNR).

• Romarico Vidal Sotomayor Garcia: Sotomayor was designated on August 13, 2021, for having acted or purported to act for or on behalf of, directly or indirectly, MININT. Sotomayor is the chief of the Political Directorate of MININT, which has deployed, amongst other forces, the SNB and PNR to respond to the protests. These forces and others have violently attacked and arrested protestors across Cuba.

• Pedro Orlando Martinez Fernandez: Martinez was designated on August 13, 2021, for having acted or purported to act for or on behalf of, directly or indirectly, MININT. Martinez is the chief of the Political Directorate of the Policia Nacional Revolucionaria (PNR).

• Tropas de Prevencion (TDP): The TDP was designated on August 13, 2021, for being owned or controlled by, or for having acted or purported to act for or on behalf of, directly or indirectly, Alvaro Lopez Miera. The TDP have violently attacked and arrested protestors across Cuba. The TDP, also known as “Boinas Rojas” or Red Berets, is a unit of the Revolutionary Armed Forces (FAR) that is commanded by MINFAR and functions as military police. TDP soldiers were deployed during the recent protests, and in one instance have been involved in a violent engagement with a protestor.

• Abelardo Jimenez Gonzalez: Jimenez was designated on August 19, 2021, for having acted or purported to act for or on behalf of, directly or indirectly, MININT, a person whose property and interests in property are blocked pursuant to E.O. 13818. Jimenez is the Chief of the Directorate of Penitentiary Establishments, under MININT; in this role, he is responsible for the treatment and disposition of people imprisoned in Cuba. Cuban security forces have detained more than 800 people in response to the protests, with many being held in “preventative jail,” and the whereabouts of multiple people are still unknown.

• Andres Laureano Gonzalez Brito: Gonzalez was designated on August 19, 2021, for being a foreign person who is or has been a leader or official of an entity, including any government entity, that has engaged in, or whose members have engaged in, directly or indirectly, serious human rights abuse relating to Gonzalez's tenure. Gonzalez is the Chief of the Central Army, under the Cuban Ministry of Revolutionary Armed Forces (MINFAR).

• Roberto Legra Sotolongo: Legra was designated on August 19, 2021, for being a foreign person who is or has been a leader or official of an entity, including any government entity, that has engaged in, or whose members have engaged in, directly or indirectly, serious human rights abuse relating to Legra's tenure. Legra is the Deputy Chief of the General Staff, and Chief of the Directorate of Operations of the Revolutionary Armed Forces (FAR), under MINFAR, which deployed the TDP in response to the demonstrations.

4. Ahmad Hassan Mohammed Al Asiri: Asiri was designated on February 26, 2021, for being a foreign person who is responsible for or complicit in, or has directly or indirectly engaged in, serious human rights abuse. Asiri is the former Deputy Head of Saudi Arabia's General Intelligence Presidency. Asiri was the ringleader of the operation and coordinated with Saud Al-Qahtani to organize and dispatch the 15-man team to murder and dismember Khashoggi on October 2, 2018, inside the Saudi Consulate in Turkey.

5. Rapid Intervention Force (RIF): Saudi Arabia's RIF was designated on February 26, 2021, for being owned or controlled by, or having acted or purported to act for or on behalf of, directly or indirectly, al-Qahtani, a person whose property and interests in property are blocked pursuant to E.O. 13818. Several members of the hit squad sent to intercept Khashoggi were part of the RIF, also known as the “Tiger Squad” or Firqat el-Nemr.

6. Wang Junzheng: Junzheng was designated on March 22, 2021, for having acted or purported to act for or on behalf of, directly or indirectly, the Xinjiang Production and Construction Corps (XPCC). Junzheng is Secretary of the Party Committee of the XPCC. The XPCC is a paramilitary organization in the XUAR that is subordinate to the Chinese Communist Party (CCP) and was designated on July 31, 2020, for its connection to serious human rights abuse against members of ethnic minority groups in Xinjiang, which reportedly includes arbitrary detention and severe physical abuse, among other serious human rights abuses targeting Uyghurs, a Turkic Muslim population indigenous to Xinjiang, and members of other ethnic minority groupies in the region.

7. Chen Mingguo: Mingguo was designated on March 22, 2021, for being a foreign person who is or has been a leader or official of the Xinjiang Public Security Bureau (XPSB), an entity, including a government entity, that has engaged in, or whose members have engaged in, serious human rights abuse relating to Chen's tenure. Mingguo is Director of the XPSB. The XPSB was designated on July 9, 2020, for being a foreign entity responsible for, or complicit in, or that has directly or indirectly engaged in, serious human rights abuse against members of ethnic minority groupies in Xinjiang, which reportedly includes arbitrary detention and severe physical abuse, among other serious human rights abuses targeting Uyghurs, a Turkic Muslim population indigenous to Xinjiang, and members of other ethnic minority groupies in the region.

8. Gustavo Adolfo Alejos Cambara: Cambara was designated on April 26, 2021, for being foreign person who is a current or former government official, or a person acting for or on behalf of such an official, who is responsible for or complicit in, or who has directly or indirectly engaged in, corruption, including the misappropriation of state assets, the expropriation of private assets for personal gain, corruption related to government contracts or the extraction of natural resources, or bribery. Cambara was the former Chief of Staff for the Alvaro Colom presidential administration. Cambara had been seeking to influence the judicial selection process for magistrates to the Guatemala Supreme Court of Justice (CSJ) and Court of Appeals. To do this, Cambara reportedly facilitated payments to congressional representatives and judges on the CSJ, to influence an outcome at both institutions that would secure Cambara's future release from prison, dismiss the corruption charges against him, and protect accomplices from future prosecution due to corruption.

9. Felipe Alejos Lorenzana: Lorenzana was designated on April 26, 2021, for being foreign person who is a current or former government official, or a person acting for or on behalf of such an official, who is responsible for or complicit in, or who has directly or indirectly engaged in, corruption, including the misappropriation of state assets, the expropriation of private assets for personal gain, corruption related to government contracts or the extraction of natural resources, or bribery. Lorenzana was an elected delegate to the Congress of the Republic of Guatemala for the 2020-2024 term. Lorenzana is a close associate of Cambara, and allegedly facilitated bribes and payments from private construction firms for ongoing or potential state infrastructure contracts to congressional representatives, with the goal of ensuring congressional support of Constitutional Court magistrates and alternates, who would support a future Constitutional Court ruling favoring Lorenzana's own immunity, keeping Lorenzana and other congressional representatives out of jail.

10. Vassil Kroumov Bojkov: Bojkov was designated on June 2, 2021, for being a person who has materially assisted, sponsored, or provided financial, material, or technological support for, or goods or services to or in support of corruption, including the misappropriation of state assets, the expropriation of private assets for personal gain, corruption related to government contracts or the extraction of natural resources, or bribery. Bojkov is a prominent Bulgarian businessman and oligarch who has bribed government officials on several occasions. In addition to Bojkov, OFAC designated 58 entities registered in Bulgaria that are owned or controlled by Bojkov or one of his companies. This was the single largest one-day tranche of designations in the history of the Global Magnitsky program.

11. Delyan Slavchev Peevski: Peevski was designated on June 2, 2021, for being a foreign person who is a current or former government official, or person acting for or on behalf of such an official, who is responsible for or complicit in, or who has directly or indirectly engaged in, corruption, including the misappropriation of state assets, the expropriation of private assets for personal gain, corruption related to government contracts or the extraction of natural resources, or bribery. Peevski is an oligarch who previously served as a Bulgarian MP and media mogul who regularly engaged in corruption, using influence peddling and bribes to protect himself from public scrutiny and exert control over key institutions and sectors in Bulgarian society. In September 2019, Peevski actively worked to negatively influence the Bulgarian political process in the October 27, 2019, municipal election. Peevski negotiated with politicians to provide them with political support and positive media coverage in return for receiving protection from criminal investigations. In addition to Peevski, OFAC designated six entities registered in Bulgaria that are owned or controlled by Peevski or one of his companies.

12. Ilko Dimitrov Zhelyazkov: Zhelyazkov was designated on June 2, 2021, for being a foreign person who is a current or former government official, or person acting for or on behalf of such an official, who is responsible for or complicit in, or who has directly or indirectly engaged in, corruption, including the misappropriation of state assets, the expropriation of private assets for personal gain, corruption related to government contracts or the extraction of natural resources, or bribery. Zhelyazkov is the former Deputy Chief of the Bulgarian State Agency for Technical Operations and former Bulgarian State Agency for National Security (DANS) officer who was appointed to the National Bureau for Control on Special Intelligence-Gathering Devices. Peevski used Zhelyazkov to conduct a bribery scheme involving Bulgarian residency documents for foreign persons, as well as to bribe government officials through various means in exchange for their information and loyalty.

13. Filipos Woldeyohannes: Woldeyohannes was designated on August 23, 2021, for being a foreign person who is a leader or official of an entity, including any government entity, that has engaged in or whose members have engaged in, serious human rights abuse relating to his tenure. General Woldeyohannes is the Chief of Staff of the Eritrean Defense Forces (EDF). In this role, he commands the EDF forces that have been operating in Ethiopia. The EDF are responsible for massacres, looting, and sexual assaults. EDF troops have raped, tortured, and executed civilians; they have also destroyed property and ransacked businesses. The EDF have purposely shot civilians in the street and carried out systematic house-to-house searches, executing men and boys, and have forcibly evicted Tigrayan families from their residences and taken over their houses and property.

14. Kassem Mohamed Hijazi: Kassem Hijazi was designated on August 24, 2021, for being a foreign person who has materially assisted, sponsored, or provided financial, material, or technological support for, or goods or services to or in support of corruption, including the misappropriation of state assets, corruption related to government contracts, or the extraction of natural resources, or bribery. Operating as a despachante, or dispatcher, in Paraguay since at least 2017, Kassem Hijazi commands and controls a money laundering organization based out of Ciudad Del Este, Paraguay, which operates on a global scale with the capability to launder hundreds of millions of dollars. OFAC also designated Espana Informatica S.A. and three other entities, as they are owned or controlled by Kassem Hijazi.

15. Khalil Ahmad Hijazi: Khalil Hijazi was designated on August 24, 2021, for being a foreign person who has materially assisted, sponsored, or provided financial, material, or technological support for, or goods or services to or in support of Kassem. Khalil Hijazi is designated for being a foreign person who has materially assisted, sponsored, or provided financial, material, or technological support for, or goods or services to or in support of Kassem Hijazi.

16. Liz Paola Doldan Gonzalez: Doldan was designated on August 24, 2021, for being a foreign person who has materially assisted, sponsored, or provided financial, material, or technological support for, or goods or services to or in support of corruption, including the misappropriation of state assets, corruption related to government contracts, or the extraction of natural resources, or bribery. Doldan was identified as an intermediary working with Kassem Hijazi who works with shipments from the United States. Doldan used her company based in Paraguay, Mobile Zone International Import-Export S.R.L. (Mobile Zone), to purchase goods from a company based in Miami, Florida, which would subsequently send these goods to several shell companies in Paraguay. As the goods would enter the country destined for these shell companies, Paraguayan Customs would identify the cell phones as cheaper goods, such as printers and printer toner, to simulate the importation of lower-cost items, a practice that would allow Mobile Zone to pay less tax on the imports. Mobile Zone was also designated by OFAC.

17. Chau Phirun: Phirun was designated on November 10, 2021, for being a foreign person who is a current or former government official, or person acting for or on behalf of such an official, who is responsible for or complicit in, or have directly or indirectly engaged in, corruption, including the misappropriation of state assets, the expropriation of private assets for personal gain, corruption related to government contracts or the extraction of natural resources, or bribery. Phirun is the Director-General of the Defense Ministry's Material and Technical Services Department who conspired to profit from activities regarding the construction and updating of Ream Naval Base facilities.

18. Tea Vinh: Vinh was designated on November 10, 2021, for being a foreign person who is a current or former government official, or person acting for or on behalf of such an official, who is responsible for or complicit in, or have directly or indirectly engaged in, corruption, including the misappropriation of state assets, the expropriation of private assets for personal gain, corruption related to government contracts or the extraction of natural resources, or bribery. Vinh is the Royal Cambodian Navy Commander. Along with Chau Phirun, Vinh likely conspired to inflate the cost of facilities at Ream Naval Base and personally benefit from the proceeds. Phirun and Vinh planned to share funds skimmed from the Ream Naval Base project.

19. Alain Mukonda Mayandu: Mukonda was designated on December 6, 2021, for having materially assisted, sponsored, or provided financial, material, or technological support for, or goods or services to or in support of Gertler, a person whose property and interests in property are blocked pursuant to E.O. 13818. Mukonda made 16 cash deposits totaling between 11 and 13.5 million dollars into accounts of companies he incorporated that ultimately belong to Gertler's family. He also re-domiciled several of Gertler's companies from Gibraltar and the British Virgin Islands to the DRC.

20. 11 entities based in the DRC, as well as one entity in Gibraltar, which are owned or controlled by Mukonda, were designated: Kintaleg Limited, Ventora Global Services, Ventora Mining S.A.S.U., Ashdale Settlement Gerco SAS, Opera, Palatina SARLU, Gemini S.A.S.U., Kaltona Limited SASU, Multree Limited SASU, Rosehill DRC SASU, Woodhaven DRC SASU, Woodford Enterprises Limited SASU.

21. Abel Kandiho: Kandiho was designated on December 7, 2021, for being a foreign person who is or has been a leader or official of an entity that has engaged in, or whose members have engaged in, serious human rights abuse relating to his tenure. Kandiho is the commander of the Ugandan Chieftaincy of Military Intelligence (CMI). CMI officers have arrested, detained, and physically abused Ugandan citizens. The CMI targeted individuals due to their political views or critique of the Ugandan government. Individuals were taken into custody and held, often without legal proceedings, at CMI detention facilities where they were subjected to horrific beatings and other egregious acts by CMI officials, including electrocutions, often resulting in significant long-term injury and even death. During these incarcerations, victims were kept in solitary confinement and unable to contact friends, family, or legal support. Kandiho was personally involved leading interrogations of detained individuals while they were mistreated.

22. Zvonko Veselinovic and criminal network: Veselinovic was designated on December 8, 2021, for being a foreign person who is or has been a leader or official of an entity, including any government entity, that has engaged in, or whose members have engaged in, corruption, including the misappropriation of state assets, the expropriation of private assets for personal gain, corruption related to government contracts or the extraction of natural resources, or bribery, related to their tenure. Veselinovic is the leader of the Zvonko Veselinovic Organized Crime Group (OCG), one of Kosovo's most notorious corrupt figures. Milan Rajko Radojcic and Zharko Veselinovic were also designated for being foreign persons who are or have been a leader or official of an entity, including any government entity, that has engaged in, or whose members have engaged in, corruption, including the misappropriation of state assets, the expropriation of private assets for personal gain, corruption related to government contracts or the extraction of natural resources, or bribery, related to their tenure. The Veselinovic OCG is engaged in a large-scale bribery scheme with Kosovo and Serbian security officials who facilitate the group's illicit trafficking of goods, money, narcotics, and weapons between Kosovo and Serbia. The group has also conspired with various politicians in several quid pro quo agreements. Zeljko Bojic is being designated for having materially assisted, sponsored, or provided financial, material, or technological support for, or goods or services to or in support of Veselinovic.

23. On December 8, 2021, nine associates were designated that have acted for or on Veselinovic's behalf: Marko Rosic, Andrija Zheljko Bojic, Srdjan Milivoje Vulovic, Milan Mihajlovic, Miljan Radisavljevic, Miljojko Radisavljevic, Radovan Radic, Sinisa Nedeljkovic, and Radule Stevic. Twenty-four entities across Europe that are owned or controlled by members of the Veselinovic OCG were also designated.

24. Osiris Luna Meza (Luna) and Carlos Amilcar Marroquin Chica (Marroquin), Alma Yanira Meza Olivares (Meza): Luna and Marroquin were designated on December 8, 2021, for being foreign persons who are current or former government officials, or persons acting for or on behalf of such an official, who are responsible for or complicit in, or have directly or indirectly engaged in, corruption, including the misappropriation of state assets, the expropriation of private assets for personal gain, corruption related to government contracts or the extraction of natural resources, or bribery; and Meza was designated for having materially assisted, sponsored, or provided financial, material, or technological support for, or goods or services to or in support of,Luna. Luna is the Chief of the Salvadoran Penal System and Vice Minister of Justice and Public Security. Marroquin is the Chairman of the Social Fabric Reconstruction Unit. Luna and Marroquin led, facilitated, and organized several secret meetings involving incarcerated gang leaders, in which known gang members were allowed to enter the prison facilities and meet with senior gang leadership to facilitate command and control of this transnational organization. These meetings were part of the Government of El Salvador's efforts to negotiate a secret truce with gang leadership. Over the course of these negotiations with Luna and Marroquin, gang leadership also agreed to provide political support to the Nuevas Ideas political party in upcoming elections. Separately, Luna participated in a scheme to steal and re-sell government purchased staple goods that were originally destined for COVID-19 pandemic relief. Luna's mother, Meza, acted as the negotiator in some of these transactions.

25. Martha Carolina Recinos De Bernal: Recinos was designated on December 9, 2021, for being a foreign person who is a current or former government official, or person acting for or on behalf of such an official, who is responsible for or complicit in, or has directly or indirectly engaged in, corruption, including the misappropriation of state assets, the expropriation of private assets for personal gain, corruption related to government contracts or the extraction of natural resources, or bribery. Recinos is the Chief ofCabinet in the Bukele administration and was designated in connection with corruption in the administration's handling of COVID-19 related assistance including significant markups of donated personal protective equipment and other medical aid for their personal benefit.

26. Manuel Victor Martinez Olivet: Martinez was designated on December 9, 2021, for being a foreign person who is a current or former government official, or person acting for or on behalf of such an official, who is responsible for or complicit in, or has directly or indirectly engaged in, corruption, including the misappropriation of state assets, the expropriation of private assets for personal gain, corruption related to government contracts or the extraction of natural resources, or bribery. During his tenure as the Director of the Santa Rosa Health Area within the Guatemalan Ministry of Public Health, Martinez engaged in various acts of misappropriation, fraud, abuse of authority and favored companies related to his family and directly awarded contracts to them without going through the public bidding process, circumventing the regular procurement process.

27. ARC Resources Corporation Limited (ARC Resources) and Winners Construction Company Limited (Winners): ARC Resources and Winners were designated on December 9, 2021, for being owned or controlled by Benjamin Bol Mel (Bol Mel), an individual previously included in the Annex of E.O. 13818 in December 2017 in South Sudan. Bol Mel previously oversaw ABMC Thai-South Sudan Construction Company Limited (ABMC), which was awarded contracts worth tens of millions of dollars by the Government of South Sudan (GoSS) and allegedly received preferential treatment from high-level officials in a non-competitive process for selecting ABMC to do roadwork throughout South Sudan. ARC Resources is linked to ABMC and has been used by senior members of the South Sudanese transitional government for laundering money. Both ARC Resources and Winners have been used to evade sanctions and travel restrictions on Bol Mel and have been awarded noncompetitive and substantial oil-backed contracts from the GoSS for road construction.

28. Prince Yormie Johnson: Johnson was designated on December 9, 2021, for being a foreign person who is a current or former government official, or a person acting for or on behalf of such an official, who is responsible for or complicit in, or has directly or indirectly engaged in, corruption, including the misappropriation of state assets, the expropriation of private assets for personal gain, corruption related to government contracts or the extraction of natural resources, or bribery. Johnson is a former warlord, former Chairman of the Senate Committee on National Security, Defense, Intelligence, and Veteran Affairs and a current member of the Liberian Senate. As a Senator, Johnson was involved in pay for play funding with government ministries and organizations for personal enrichment. As part of the scheme, upon receiving funding from the Government of Liberia, the government ministries and organizations launder a portion of the funding for return to the involved participants.

29. Andriy Portnov: Portnov was designated on December 9, 2021, for being a foreign person who is a current or former government official, or a person acting for or on behalf of such an official, who is responsible for or complicit in, or has directly or indirectly engaged in, corruption, including the misappropriation of state assets, the expropriation of private assets for personal gain, corruption related to government contracts or the extraction of natural resources, or bribery. Portnov is the former Deputy Head of the Ukrainian Presidential Administration under former President Yanukovych. Portnov has taken steps to control the Ukrainian judiciary, influence associated legislation, sought to place loyal officials in senior judiciary positions, and purchase court decisions. Portnov colluded with Ukrainian government officials to shape the country's higher legal institutions to their advantage,and influence Ukraine's Constitutional Court. Portnovwas also involved in an attempt to influencea Ukrainian Prosecutor General.

30. The Andriy Portnov Fund was designated on December 9, 2021, for being owned and controlled by Portnov.

31. Fragoso do Nascimento and Manuel Helder Vieira Dias Junior: Nascimento and Dias Junior were designated on December 9, 2021, for being foreign persons who are current or former government officials, or persons acting for or on behalf of such an official, who are responsible for or complicit in, or has directly or indirectly engaged in, corruption, including the misappropriation of state assets, the expropriation of private assets for personal gain, corruption related to government contracts or the extraction of natural resources, or bribery. Both are government officials that were discovered to have stolen billions of dollars from the Angolan government through embezzlement. Baia Consulting Limited (Baia) was also designated on December 9, 2021, for being owned or controlled by Dias Junior, and Luisa De Fatima Giovetty was designated for materially assisting, sponsoring, or providing financial, material, or technological support for, or goods or services to or in support of, Baia, a person whose property and interests in property are blocked.

32. Four entities were designated on December 9, 2021, that are owned or controlled by Nascimento.

33. Shohrat Zakir: Zakir was designated on December 10, 2021, for being a foreign person who is or has been a leader or official of an entity that has engaged in, or whose members have engaged in, serious human rights abuse relating to his tenure. Zakir served as the Chairman of the Xinjiang Uyghur Autonomous Region of China (XUAR) from 2014 until 2021 and as Deputy Secretary for the Party Standing Committee of XUAR since 2014. During his tenure, up to two million Uyghurs and members of other predominantly Muslim ethnic minority groups have been detained in Xinjiang. On July 9, 2020, OFAC designated the Xinjiang Public Security Bureau (XPSB), a constituent department of the XUAR, for its role in the serious human rights abuse that has occurred in Xinjiang since at least late 2016.

34. Erken Tuniyaz: Tuniyaz was designated on December 10, 2021, for being a foreign person who is or has been a leader or official of an entity that has engaged in, or whose members have engaged in, serious human rights abuse relating to his tenure. Tuniyaz serves as the acting Chairman of the XUAR and had served as the Vice Chairman of the XUAR since 2008. During his tenure, up to two million Uyghurs and members of other predominantly Muslim ethnic minority groups have been detained in Xinjiang. On July 9, 2020, OFAC designated the Xinjiang Public Security Bureau (XPSB), a constituent department of the XUAR, for its role in the serious human rights abuse that has occurred in Xinjiang since at least late 2016.

35. Rapid Action Battalion (RAB): The RAB was designated on December 10, 2021, for being a foreign entity who is responsible for or complicit in, or has directly or indirectly engaged in, serious human rights abuse. NGOs have alleged that RAB and other Bangladeshi law enforcement are responsible for more than 600 disappearances since 2009, nearly 600 extrajudicial killings since 2018, and torture. Some reports suggest these incidents target opposition party members, journalists, and human rights activists.

The following individuals are designated in connection with the RAB:

• Chowdhury Abdullah Al-Mamun: Al-Mamun was designated on December 10, 2021, for being a foreign person who is or has been a leader or official of RAB, an entity that has engaged in, or whose members have engaged in, serious human rights abuse relating to his tenure. Al-Mamun serves as the Director General of RAB since April 15, 2020.

• Benazir Ahmed: Ahmed was designated on December 10, 2021, for being a foreign person who is or has been a leader or official of RAB, an entity that has engaged in, or whose members have engaged in, serious human rights abuse relating to his tenure. Ahmed served as Director General of RAB from January 2015 to April 14, 2020.

• Khan Mohammad Azad: Azad was designated on December 10, 2021, for being a foreign person who is or has been a leader or official of RAB, an entity that has engaged in, or whose members have engaged in, serious human rights abuse relating to his tenure. Azad serves as Additional Director General of Operations of RAB since March 16, 2021.

• Tofayel Mustafa Sorwar: Sorwar was designated on December 10, 2021, for being a foreign person who is or has been a leader or official of RAB, an entity that has engaged in, or whose members have engaged in, serious human rights abuse relating to his tenure. Sorwar served as Additional Director General Operations of RAB from June 27, 2019 to March 16, 2021.

• Mohammad Jahangir Alam: Alam was designated on December 10, 2021, for being a foreign person who is or has been a leader or official of RAB, an entity that has engaged in, or whose members have engaged in, serious human rights abuse relating to his tenure. Alam served as Additional Director General Operations of RAB from September 17, 2018 to June 27, 2019.

• Mohammad Anwar Latif Khan: Khan was designated on December 10, 2021, for being a foreign person who is or has been a leader or official of RAB, an entity that has engaged in, or whose members have engaged in, serious human rights abuse relating to his tenure. Khan served as Additional Director General Operations of RAB from April 28, 2016 to September 17, 2018.

Visa Restrictions Imposed

Although no visa restrictions were imposed under the Act during 2021, persons designated pursuant to E.O. 13818 shall be subject to the visa restrictions articulated in section 2, unless an exception applies. Section 2 provides that the entry of persons designated under section 1 of the order is suspended pursuant to Presidential Proclamation 8693. In 2021, the State Department also applied, when appropriate, visa restrictions on foreign persons involved in significant corruption or a gross violation of human rights under other authorities, reported to Congress through other means. As appropriate, the Department of State will take additional action to impose visa restrictions on those responsible for certain human rights violations and significant corruption pursuant to other authorities, including Presidential Proclamations 7750 and 8697, and Section 7031(c) of the FY2021 Department of State, Foreign Operations, and Related Programs, as carried forward by the FY2022 Continuing Appropriations Act, 2022. In addition, section 212(a)(3)(E) of the Immigration and Nationality Act renders aliens ineligible for visas if a consular officer has reason to believe that they participated in acts of genocide, torture or extra judicial killings.

Efforts To Encourage Governments of Other Countries To Impose Sanctions Similar to Those Authorized by the Act

In 2021, the Administration continued its successful outreach campaign to international partners regarding the expansion of domestic and multilateral anticorruption and human rights sanctions regimes. On March 22, 2021, the United States, United Kingdom, and Canada, in unity with the European Union, coordinated action to sanction those connected to serious human rights abuse in the Xinjiang region of China. The UK established its Global Anti-Corruption Sanctions regime in April 2021. This program was announced with coordinated concurrent designations with the United States. During this reporting period, Australia conducted a review of its thematic sanctions programs, with legislation to amend their authorities introduced to Parliament in November 2021 and enacted on December 2, 2021. Over the course of the reporting period, the Administration worked closely with the like-minded partners in pursuing coordinated actions against human rights abusers and corrupt actors. Throughout this and future outreach, the Administration has identified and will continue to identify champions, partners, and potential spoilers of the objectives established by Congress within the Act. The Departments of State and the Treasury have, over the last year, shared information, coordinated messaging, and provided technical assistance to this end. The Administration will continue to seek out additional allies and partners to jointly leverage all tools at our disposal to deny access to the U.S. and international financial systems and deny entry to the United States to all those who engage in serious human rights abuse and corruption.

Alexandra King-Pile,
Economic Officer, Department of State.

[FR Doc. 2023-06464 Filed 3-28-23; 8:45 am]

BILLING CODE 4710-AE-P